DEPARTMENT OF ENERGY

Federal Energy Regulatory Commission

18 CFR Part 284

[Docket No. RM15-19-000]

Petition for a Rulemaking of the Liquids Shippers Group, Airlines for America, and the National Propane Gas Association

AGENCY: Federal Energy Regulatory Commission, Energy.

ACTION: Notice of technical conference.

SUMMARY: In this notice, the Federal Energy Regulatory Commission (Commission) plans to hold a technical conference on July 30, 2015, to discuss issues raised by the petition for rulemaking. The petition for rulemaking is requesting that the Commission issue a Notice of Proposed Rulemaking (NOPR) requiring changes to the FERC Form No. 6 (Annual Report of Oil Pipeline Companies), Page 700.

DATES: The technical conference will be held on July 30, 2015.

FOR FURTHER INFORMATION CONTACT:

Technical Contact

Adrianne Cook, Office of Energy Market Regulation, Federal Energy Regulatory Commission, 888 First Street NE., Washington, DC 20426, Adrianne.Cook@ferc.gov, (202) 502-8849.

Legal Contacts

David Faerberg, Office of the General Counsel, Federal Energy Regulatory Commission, 888 First Street NE., Washington, DC 20426, David.Faerberg@ferc.gov, (202) 502-8275.

Rekha Chandrasekher, Office of the General Counsel, Federal Energy Regulatory Commission, 888 First Street NE., Washington, DC 20426, Rekha.Chandrasekher@ferc.gov, (202) 502-8865.

SUPPLEMENTARY INFORMATION:

Notice of Technical Conference

On April 20, 2015, the Liquids Shippers Group, Airlines for America and the National Propane Gas Association (Joint Petitioners) filed a petition for rulemaking requesting that the Commission issue a Notice of Proposed Rulemaking (NOPR) requiring changes to the FERC Form No. 6 (Annual Report of Oil Pipeline Companies), Page 700.

The Joint Petitioners request that the Commission issue a NOPR in which it proposes to revise Form No. 6, Page 700 by (1) requiring a pipeline that (i) files a single Form No. 6 report for both crude oil and petroleum product systems, and/or (ii) has multiple established and recognized segments which correspond to how the pipeline's rates are established or designed, to file a separate Page 700 for each individual system or segment rather than reporting aggregated cost and revenue data on a single Page 700; and (2) revising the Page 700 instructions to require crude oil and petroleum product pipelines to make their workpapers available to shippers and interested persons upon request, not just to the Commission and its Staff.

Take notice that the Commission plans to hold a technical conference on July 30, 2015, to discuss issues raised by the petition for rulemaking.

The Commission will issue a subsequent notice organizing the conference. The Commission contemplates utilizing panels to work through the issues presented. Those interested in serving on panels are asked to submit a short notice of intent in the instant docket, along with the specific issues they plan to address on or before July 10, 2015. Due to time constraints, we may not be able to accommodate all those interested in speaking.

Dated: June 30, 2015.
Nathaniel J. Davis, Sr.,
Deputy Secretary.

[FR Doc. 2015-16880 Filed 7-9-15; 8:45 am]

BILLING CODE 6717-01-P